DEPARTMENT OF AGRICULTURE

Rural Housing Service

Section 538 Guaranteed Rural Rental Housing Program 2018 Industry Forums—Open Teleconference and/or Web Conference Meetings

AGENCY: Rural Housing Service, USDA.

ACTION: Notice.

SUMMARY: This Notice announces a series of teleconference and/or web conference meetings regarding the U.S. Department of Agriculture (USDA) Section 538 Guaranteed Rural Rental Housing (GRRH) program, which are scheduled to occur during 2018 and 2019. This Notice also outlines suggested discussion topics for the meetings and is intended to notify the general public of their opportunity to participate in the teleconference and/or web conference meetings.

DATES: See SUPPLEMENTARY INFORMATION section for dates.

FURTHER CONTACT INFORMATION: Any member of the public wishing to register for the calls and obtain the call-in number, access code, web link and other information for any of the public teleconference and/or web conference meetings may contact Monica Cole, Financial and Loan Analyst, at: (202) 720-1251, fax: (844) 875-8075, or email: monica.cole@wdc.usda.gov.

SUPPLEMENTARY INFORMATION: The objectives of this series of teleconferences are as follows:

• Enhance the effectiveness of the Section 538 GRRH program.

• Update industry participants and Rural Housing Service (RHS) staff on developments involving the Section 538 GRRH program.

• Enhance RHS' awareness of the market and other forces that impact the Section 538 GRRH program.

Topics to be discussed could include, but will not be limited to, the following:

• Updates on USDA's Section 538 GRRH program activities.

• Perspectives on the current state of debt financing and its impact on the Section 538 GRRH program.

• Enhancing the use of Section 538 GRRH program financing with the transfer and/or preservation of Section 515 developments.

• The impact of the Low Income Housing Tax Credits program changes on Section 538 GRRH program financing.

The dates and times for the teleconference and/or web conference meetings will be announced via email to parties registered as described below.

Registration: Those who request registration less than 15 calendar days prior to the date of a teleconference and/or web conference meetings may not receive notice of that teleconference and/or web conference meeting, but will receive notice of future teleconference and/or web conference meetings. The Agency expects to accommodate each participant's preferred form of participation by telephone or via web link. However, if it appears that existing capabilities may prevent the Agency from accommodating all requests for one form of participation, each participant will be notified and encouraged to consider an alternative form of participation. Individuals who plan to participate and need reasonable accommodations or language translation assistance should inform Monica Cole within 10 business days in advance of the meeting date.

Non-Discrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW, Washington, DC 20250-9410;

(2) fax: (202) 690-7442; or

(3) email: program.intake@usda.gov.

USDA is an equal opportunity provider, employer, and lender.

Dated: April 4, 2018.
Curtis M. Anderson,
Acting Administrator, Rural Housing Service.

[FR Doc. 2018-07462 Filed 4-10-18; 8:45 am]

BILLING CODE 3410-XV-P